FEDERAL DEPOSIT INSURANCE CORPORATION

Agency Information Collection Activities: Submission for OMB Review; Comment Request

AGENCY: Federal Deposit Insurance Corporation (FDIC).

ACTION: Notice of information collections to be submitted to OMB for review and approval under the Paperwork Reduction Act of 1995.

SUMMARY: In accordance with requirements of the Paperwork Reduction Act of 1995 (44 U.S.C. 3501 et seq.), the FDIC hereby gives notice that it is submitting to the Office of Management and Budget (OMB) a request for OMB review and approval of the information collection systems described below.

DATES: Comments must be submitted on or before September 19, 2008.

ADDRESSES: Interested parties are invited to submit written comments. All comments should refer to the name of the collection. Comments may be submitted by any of the following methods:

• http://www.FDIC.gov/regulations/laws/federal/propose.html.

• E-mail: comments@fdic.gov.

• Mail: Leneta G. Gregorie (202.898.3719), Counsel, Federal Deposit Insurance Corporation, PA1730-3000, 550 17th Street, NW., Washington, DC 20429.

• Hand Delivery: Comments may be hand-delivered to the guard station at the rear of the 550 17th Street Building (located on F Street), on business days between 7 a.m. and 5 p.m.

A copy of the comments may also be submitted to the FDIC Desk Officer, Office of Information and Regulatory Affairs, Office of Management and Budget, New Executive Office Building, Room 10235, Washington, DC 20503.

FOR FURTHER INFORMATION CONTACT: Leneta G. Gregorie, at the address identified above.

SUPPLEMENTARY INFORMATION: Proposal to renew the following currently approved collection of information:

1. Title: Acquisition Services Information Requirements.

OMB Number: 3064-0072. This OMB Number covers the following forms:

Forms Currently in Use:

FDIC Background Investigation Questionnaire for Contractor Personnel Management Officials, Form 1600/04 (10-05).

FDIC Contractor Representation and Certifications, Form 3700/04A (10-05).

FDIC Background Investigation Questionnaire for Contractor, Form 1600/07 (10-05).

FDIC Integrity and Fitness Representations and Certifications, Form 3700/12 (10-05).

FDIC Leasing Representations and Certifications Form 3700/44 (10-05).

Discontinued Forms in This Collection:

FDIC Notice and Authorization Pertaining to Consumer Reports, Form 1600/10 (10-02) [form removed as a result of determination that it qualifies as a “certification” or “consent” excluded from the definition of “information”].

Frequency of Response: On occasion.

Affected Public: Any contractors who wish to do business, have done business, or are currently under contract with the FDIC.

Estimated Number of Respondents and Burden Hours:

FDIC document | Hours per unit | Number of respondents | Burden hours
Background Investigation Questionnaire Management (1600/04) | .33 | 4,000 | 1,320
Background Investigation Questionnaire Contractors (1600/07) | .50 | 200 | 100
Contractor Representation and Certifications (3700/04A) | .50 | 360 | 180
Integrity and Fitness Representations and Certifications (3700/12) | .33 | 360 | 119
Leasing Representations and Certifications (3700/44) | 1.0 | 35 | 35
FDIC Past Performance Questionnaire | .75 | 1,080 | 810
Total |  | 6,035 | 2,564

General Description of Collection: The collection involves the submission of information on various forms by contractors who wish to do business, have done business, or are currently under contract with the FDIC. The information is used to ensure compliance with established contractor ethics regulations (12 CFR Part 366); obtain information on a contractor's past performance for proposal evaluation purposes; review a potential lessor's fitness and integrity prior to entering into a lease transaction; and perform background investigations on contractors and contractor personnel.

2. Title: Account Based Disclosures in Connection With Federal Reserve Regulations E, CC, and DD.

OMB Number: 3064-0084.

Frequency of Response: On occasion.

Affected Public: State chartered banks that are not members of the Federal Reserve System.

Estimated Number of Respondents: 5,192.

Annual Burden: Regulation E—29,404 hours; Regulation CC—528,513 hours; and Regulation DD—302,434 hours.

One-time Burden: Regulation E—ATM and transaction disclosures—42,336 hours.

Total Estimated Burden: 902,687 hours.

General Description of Collection: This FDIC information collection provides for the application of Regulations E (Electronic Fund Transfers), CC (Availability of Funds), and DD (Truth in Savings) to State nonmember banks. Regulations E, CC, and DD are issued by the Federal Reserve Board of Governors (FRB) to ensure, among other things, that consumers are provided adequate disclosures regarding accounts, including electronic fund transfer services, availability of funds, and fees and annual percentage yield for deposit accounts. Generally, the Regulation E disclosures are designed to ensure consumers receive adequate disclosure of basic terms, costs, and rights relating to electronic fund transfer (EFT) services provided to them so that they can make informed decisions. Institutions offering EFT services must disclose to consumers certain information, including: Initial and updated EFT terms, transaction information, the consumer's potential liability for unauthorized transfers, and error resolution rights and procedures.

Like Regulation E, Regulation CC has consumer protection disclosure requirements. Specifically, Regulation CC requires depository institutions to make funds deposited in transaction accounts available within specified time periods, disclose their availability policies to customers, and begin accruing interest on such deposits promptly. The disclosures are intended to alert customers that their ability to use deposited funds may be delayed, prevent unintentional (and costly) overdrafts, and allow customers to compare the policies of different institutions before deciding at which institution to deposit funds. Depository institutions must also provide an awareness disclosure regarding substitute checks. The regulation also requires notice to the depositary bank and to a customer of nonpayment of a check.

Regulation DD also has similar consumer protection disclosure requirements that are intended to assist consumers in comparing deposit accounts offered by institutions, principally through the disclosure of fees, the annual percentage yield, and other account terms. Regulation DD requires depository institutions to disclose yields, fees, and other terms concerning deposit accounts to consumers at account opening, upon request, and when changes in terms occur. Depository institutions that provide periodic statements are required to include information about fees imposed, interest earned, and the annual percentage yield (APY) earned during those statement periods. It also contains rules about advertising deposit accounts.

Although the FRB regulations require institutions to retain evidence of compliance with the disclosure requirements, the regulations do not specify the types of records that must be retained.

3. Title: Prompt Corrective Action.

OMB Number: 3064-0115.

Frequency of Response: On occasion.

Affected Public: All insured depository institutions.

Estimated Number of Respondents: 19.

Estimated Time per Response: 4 hours.

Total Annual Burden: 76 hours.

General Description of Collection: The Prompt Corrective Action provisions in Section 38 of the Federal Deposit Insurance Act (12 U.S.C. 1831o) permits and, in some cases requires, the Federal Deposit Insurance Corporation (FDIC) and other federal banking agencies to take certain supervisory actions when FDIC-insured institutions fall within one of five capital categories. They also restrict or prohibit certain activities and require the submission of a capital restoration plan when an insured institution becomes undercapitalized.

Request for Comment

Comments are invited on: (a) Whether these collections of information are necessary for the proper performance of the FDIC's functions, including whether the information has practical utility; (b) the accuracy of the estimate of the burden of the information collection, including the validity of the methodology and assumptions used; (c) ways to enhance the quality, utility, and clarity of the information to be collected; and (d) ways to minimize the burden of the information collection on respondents, including through the use of automated collection techniques or other forms of information technology. All comments will become a matter of public record.

Federal Deposit Insurance Corporation.
Dated at Washington, DC, this 15th day of August, 2008.
Valerie Best,
Assistant Executive Secretary.

[FR Doc. E8-19254 Filed 8-19-08; 8:45 am]

BILLING CODE 6714-01-P